DEPARTMENT OF LABOR

Employment and Training Administration

[TA-W-57,881]

Champion Laboratories, Inc. Albion, IL Including an Employee of Champion Laboratories, Inc., Albion, IL Located in Bristol, CT; Amended Certification Regarding Eligibility To Apply for Worker Adjustment Assistance

In accordance with section 223 of the Trade Act of 1974 (19 U.S.C. 2273) the Department of Labor issued a Certification Regarding Eligibility to Apply for Worker Adjustment Assistance on September 15, 2005, applicable to workers of Champion Laboratories, Inc., Albion, Illinois. The notice was published in the Federal Register on October 31, 2005 (70 FR 62347).

At the request of the State agency, the Department reviewed the certification for workers of the subject firm. New information shows that a worker separation occurred involving an employee of the Albion, Illinois facility of Champion Laboratories, Inc. located in Bristol, Connecticut. Mr. Armedee Nadeau provided sales support services for the production of filters at the Albion, Illinois location of the subject firm.

Based on these findings, the Department is amending this certification to include an employee of the Albion, Illinois facility of Champion Laboratories, Inc. located in Bristol, Connecticut.

The intent of the Department's certification is to include all workers of Champion Laboratories, Inc., Albion, Illinois who was adversely affected by increased company imports.

The amended notice applicable to TA-W-57,881 is hereby issued as follows:

All workers of Champion Laboratories, Inc., Albion, Illinois (TA-W-57,881), including an employee of Champion Laboratories, Albion, Illinois, located in Bristol, Connecticut (TA-W-57,881A), who became totally or partially separated from employment on or after August 27, 2004, through September 15, 2007, are eligible to apply for adjustment assistance under Section 223 of the Trade Act of 1974.

Signed at Washington, DC, this 8th day of November, 2005.
Elliott S. Kushner,
Certifying Officer, Division of Trade Adjustment Assistance.

[FR Doc. E5-6461 Filed 11-22-05; 8:45 am]

BILLING CODE 4510-30-P